DEPARTMENT OF THE INTERIOR

Bureau of Land Management

[NM-070-1610-DP]

Notice of Availability of the Draft Farmington Resource Management Plan Revision and Draft Environmental Impact Statement; Farmington Field Office, New Mexico

AGENCY: Bureau of Land Management, Interior.

ACTION: Notice of availability of the Draft Farmington Resource Management Plan Revision and Draft Environmental Impact Statement.

SUMMARY: The Bureau of Land Management (BLM) announces the availability of the Draft Farmington Resource Management Plan (RMP) Revision and Draft Environmental Impact Statement (EIS) for public review and comment. This document identifies and analyzes land use planning options for managing approximately 2 million acres of public land and just over 3 million acres of Federal mineral estate administered by the Farmington Field Office (FFO) and in the San Juan Basin portion of the area administered by the Albuquerque Field Office (AFO) (formerly Rio Puerco Resource Area) in New Mexico. The FFO covers all of San Juan County and portions of McKinley, Rio Arriba, and Sandoval Counties and the AFO portion of the San Juan Basin includes parts of McKinley and Sandoval Counties in northwest New Mexico. The BLM is recommending undesignating 4 previously designated Areas of Critical Environmental Concern (ACECs), designating 14 new ACECs, and changing the size or use limitations of 42 existing ACECs. BLM is also applying off-highway vehicle (OHV) designations to lands administered by FFO.

DATES: Comments will be accepted for 90 days from the date that the Environmental Protection Agency publishes a Notice of Availability and Filing of the Draft EIS in the Federal Register. Public hearings and meetings will be held to discuss the management alternatives, answer questions, and to receive comments on the draft. Comments can be made orally at the public hearings and/or in writing to the FFO Manager at the address given below. At least 15 days notice in local media will be given for activities where the public is invited to attend. All meeting notifications will be published on the FFO Web site www.nm.blm.gov under “Field Offices, Farmington Field Office” (subject to Internet availability), and in the Farmington Daily Times and the Albuquerque Journal newspapers.

Comments, including the name and addresses of commenters, will be available for public review. Respondents may request confidentiality. If you wish to withhold your name and/or address from public review or from disclosure under the Freedom of Information Act, you must state this prominently at the beginning of your written comment. Such requests will be honored to the extent allowed by law. All submissions from organizations or businesses, and from individuals identifying themselves as representatives or officials or organizations or businesses, will be made available for public inspection in their entirety.

Comments are most meaningful and helpful if they address one or more of the following:

• Errors in the analysis.

• New information that would have a bearing on the analysis.

• Misinformation that could affect the outcome of the analysis.

• Requests for clarification.

• A substantive new alternative whose mix of allocations differs from any of the existing alternatives.

Where possible, refer to the pages and paragraphs on which you are commenting.

FOR FURTHER INFORMATION, CONTACT: RMP Project Manager, Farmington Field Office, 1235 La Plata Highway, Suite A, Farmington, NM 87401-8754. Comments should be sent to this address.

SUPPLEMENTARY INFORMATION: The Draft RMP/EIS pertains to public land in the FFO area, except where a small portion of the San Juan Oil and Gas Basin lies within the administrative boundary of the AFO. The Draft RMP/EIS fulfills the requirements of the Federal Land Management Policy Act (FLPMA) and the National Environmental Policy Act (NEPA).

The Draft RMP/EIS addresses the full range of resources and multiple uses in the planning area. The five major issues raised during scoping that are addressed in the Draft RMP/EIS are: (1) Oil and gas leasing and development; (2) landownership adjustments; (3) specially designated areas; (4) off-highway vehicle (OHV) use; and (5) coal leasing suitability assessment.

Four alternatives for managing the public lands in the FFO are proposed. Each of the alternatives has been prepared to provide a comprehensive framework for managing the public lands and for allocating resources during the next 20 years using the principles of multiple use and sustained yield. The four alternatives are:

• Alternative A is “no action,” in which management would remain under current RMP and NEPA documents and policies.

• Alternative B emphasizes maximum recovery of the hydrocarbon and other resources as the primary goal.

• Alternative C emphasizes conservation, protection, and enhancement of natural and cultural resources through more stringent management of designated areas.

• Alternative D, the preferred action, balances the two goals to achieve maximum practicable recovery of oil and gas, while also maximizing protection of the most sensitive environmental resources.

Areas of Critical Environmental Concern

Four currently designated ACECs are being dropped in the plan because they are not necessary (three are within a wilderness area, and one was for a plant species that is more widely spread than previously known). The remainder of previously designated ACECs are being carried forward, but some changed in size or use limitations. Following the description of the values for which the area was nominated are the major use restrictions (alphabetical characters) that apply to the ACEC. The alphabetical characters are defined at the end of the ACEC discussion.

New ACECs

1. Albert Mesa ACEC: 177 total acres—Cultural Resources, Historic Sites: Major use restrictions include: A, C, D, E, F, G, J, K, L, M, O, Q.

2. Cedar Hill ACEC: 1,886 total acres—Cultural Resources, Anasazi Communities (Non-Chacoan): Major use restrictions include: A, C, D, E, F, H, I, K, R.

3. Cottonwood Divide ACEC: 60 total acres—Cultural Resources, Early Navajo Defensive Sites and Communities: Major use restrictions include: A, B, D, E, F, G, J, K, L, M, O, Q.

4. Haynes Trading Post ACEC: 43 total acres—Cultural Resources, Historic Sites: Major use restrictions include: A, C, D, E, F, H, I, K, L, M, O, P, Q.

5. Hummingbird Canyon ACEC: 130 total acres—Cultural Resources, Petroglyph and Pictograph Sites: Major use restrictions include: A, B, D, E, F, G, J, K, L, M, O, Q.

6. La Jara ACEC: 1,769 total acres—Cultural Resources, Anasazi Communities (Non-Chacoan): Major use restrictions include: A, C, D, E, F, H, I, K, R.

7. Moss Trail ACEC: 28 total acres—Cultural Resources, Historic Sites: Major use restrictions include: A, C, D, E, F, G, J, K, L, M, O, P, Q.

8. Muñoz Canyon ACEC: 268 total acres—Cultural Resources, Early Navajo Defensive Sites and Communities: Major use restrictions include: A, C, D, E, F, H, I, K, L, M, R.

9. Pork Chop Pass ACEC: 44 total acres—Cultural Resources, Early Navajo Defensive Sites and Communities: Major use restrictions include: A, C, D, E, F, H, I, K, L, M, O, R.

10. Star Rock ACEC: 60 total acres—Cultural Resources, Early Navajo Defensive Sites and Communities: Major use restrictions include: A, C, D, E, F, G, J, K, L, M, O, Q.

11. String House ACEC: 47 total acres—Cultural Resources, Early Navajo Defensive Sites and Communities: Major use restrictions include: A, C, D, E, F, G, J, K, L, M, O, Q.

12. Truby's Tower ACEC: 160 total acres—Cultural Resources, Early Navajo Defensive Sites and Communities: Major use restrictions include: A, C, D, E, F, H, I, K, L, M, O, R.

13. Mexican Spotted Owl ACEC: 2,758 total acres—Threatened and Endangered Species: Major use restrictions include: A, C, F, I.

14. Piñon Mesa ACEC: 9,454 total acres—Recreation: Major use restrictions include: A, C, F, I, K, L, M, P.

Key to Major Use Restrictions

A—Oil and Gas, leased acreage (closed or partially restricted, time limitation or seasonal).

B—Oil and Gas, new leasing, closed.

C—Oil and Gas, new leasing, other restriction.

D—Leasables and saleables, closed or otherwise restricted.

E—Locatables, withdraw minerals.

F—Land not available for disposal

G—No new rights-of-way.

H—Rights-of-way where previously disturbed.

I—OHV limited.

J—OHV closed.

K—VRM classes I & II.

L—No woodcutting.

M—Closed to vegetation modification.

N—Vegetation modification considered case by case.

O—Closed to grazing.

P—Identify noise sensitive areas.

Q—Closed to grazing.

R—Restrict to previously disturbed areas.

Specially designated areas (Research Natural Areas, Wilderness Areas, recreation, paleontological, and wildlife areas and ACECs) in the FFO would increase from 492,000 Federal surface acres in the no action alternative to 650,000 Federal surface acres in the preferred alternative.

Copies of the Draft Farmington Resource Management Plan Revision and Draft Environmental Impact Statement are available at Web site www.nm.blm.gov or on request by contacting the BLM Field Office at 1235 La Plata Highway, Suite A, Farmington, NM 87401-8754.

Dated: May 16, 2002.
Carsten F. Goff,
New Mexico Acting State Director.

[FR Doc. 02-16400 Filed 6-27-02; 8:45 am]

BILLING CODE 4310-FB-P